NATIONAL TRANSPORTATION SAFETY BOARD

[Docket No.: NTSB-2021-0010, OMB Control No. 3147-0028]

Proposed Information Collection; Comment Request

AGENCY: National Transportation Safety Board (NTSB).

ACTION: 30-Day Notice of Information Collection; request for comments.

SUMMARY: Under the Paperwork Reduction Act (PRA) of 1995, the National Transportation Safety Board (NTSB) offers the public and Federal agencies the opportunity to comment regarding the NTSB's submission of an Information Collection Request (ICR) for an extension of a currently-approved information collection (IC) for Office of Management and Budget (OMB) Control No. 3147-0028. The OMB number, which is currently assigned to the NTSB's Request for a Medical Exception to the COVID-19 Vaccination Requirement form, was obtained through emergency clearance in November 2021 and will expire on May 31, 2022. The NTSB published a 60-Day Notice in December 2021, soliciting comments until February 15, 2022. With no comments received, the NTSB is issuing this 30-Day Notice, informing the public and Federal agencies to submit comments directly to the Office of Information & Regulatory Affairs (OIRA) regarding this ICR.

DATES: Submit comments to OIRA regarding this proposed collection of information by April 21, 2022.

ADDRESSES: Send comments directly to OIRA within 30 days of the publication of this Notice to https://www.reginfo.gov/public/do/PRAMain.

FOR FURTHER INFORMATION CONTACT: Kathleen Silbaugh, General Counsel, (202) 314-6080, rulemaking@ntsb.gov.

SUPPLEMENTARY INFORMATION: To comply with the September 9, 2021, Executive Order (E.O.) 14043 (Requiring Coronavirus Disease 2019 Vaccination for Federal Employees) and October 2021 guidance from the Safer Federal Workforce Task Force, the NTSB created and received emergency clearance in November 2021 for the following form: Request for a Medical Exception to the COVID-19 Vaccination Requirement. This form is designed for agency employees requesting a medical exception to the vaccine requirements. This IC is necessary because when an agency employee requests a medical exception to the COVID-19 vaccine requirements, the NTSB will use the information on this form to determine whether the employee provided sufficient information to justify the request.

Because the OMB number assigned to this form was obtained through emergency clearance, the OMB number is only valid for six months and will expire on May 31, 2022. In anticipation of future requests from its employees, the NTSB is specifically seeking an extension of this currently-approved collection.

Prior to submitting the ICR to OIRA, the NTSB published in December 2020, a 60-day Notice in the Federal Register, soliciting comments until February 15, 2022; however, no comments were received as of the close of the comment period. Accordingly, the NTSB is publishing this 30-Day Notice to inform the public that the agency is submitting an ICR to OIRA for review and that future comments are to be sent directly to OIRA.

The NTSB currently is soliciting public comments that include: (1) Whether the proposed collection is necessary for the NTSB to perform its mission; (2) the accuracy of the estimated burden; (3) ways for the NTSB to enhance the quality, usefulness, and clarity of the IC; and (4) ways to minimize burden without reducing the quality of the IC.

A Notice Regarding Injunctions

The vaccination requirement issued pursuant to E.O. 14043 is currently the subject of a nationwide injunction. While that injunction remains in place, the NTSB will not process requests for a medical exception from the COVID-19 vaccination requirement pursuant to E.O. 14043. The NTSB will also not request the submission of any medical information related to a request for an exception from the vaccination requirement pursuant to E.O. 14043 while the injunction remains in place. But the NTSB may nevertheless receive information regarding a medical exception. That is because, if the NTSB were to receive a request for an exception from the COVID-19 vaccination requirement pursuant to E.O. 14043 during the pendency of the injunction, the NTSB will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Title of Collection: Request for a Medical Exception to the COVID-19 Vaccination Requirement.

OMB Control Number: 3147-0028.

Form Number: Not applicable.

Type of Review: Extension of a currently-approved collection.

Affected Public: Private sector.

Total Estimated Annual Burden Hours: 20.

Estimated Average Burden Hours per Respondent: 1.

Frequency of Response: On occasion.

Total Estimated No. of Annual Responses: 20.

Jennifer Homendy,
Chair.

[FR Doc. 2022-06037 Filed 3-21-22; 8:45 am]

BILLING CODE 7533-01-P